DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Privacy and Confidentiality.

Time and Date:

July 14, 2004 9:00 a.m.-5 p.m.

July 15, 2004 8:30 a.m.-4 p.m.

Place: Hubert H. Humphrey Building, Room 705A, 200 Independence Avenue, SW, Washington, DC.

Status: Open.

Background: The National Committee on Vital and Health Statistics is the statutory public advisory body to the Secretary of Health and Human Services in the area of health data, statistics, and health information policy. Established by section 306(k) of the Public Health Service Act (42 U.S.C. 242k(k)), its mandate includes advising the Secretary on the implementation of the Administrative Simplification provisions (Social Security Act, title IX, part C, 42 U.S.C. 1320d to 1320d-8) of the Health Insurance Portability and Accountability Act of 1996 (HIPAA), Pub. L. 104-191.

The NCVHS Subcommittee on Privacy and Confidentiality monitors developments in health information privacy and confidentiality on behalf of the full Committee and makes recommendations to the full Committee so that it can advise the Secretary on implementation of the health information privacy provisions of HIPAA.

Purpose: This meeting of the Subcommittee on Privacy and Confidentiality will receive information on the implementation of the regulation “Standards for Privacy of Individually Identifiable Health Information” (45 CFR parts 160 and 164), promulgated under the Health Insurance Portability and Accountability Act of 1996.

The regulation and further information about it can be found on the Web site of the Office for Civil Rights, at http://www.hhs.gov/ocr/hipaa/. The regulation has been in effect since April 14, 2001. Most entities covered by the regulation were required to come into compliance by April 14, 2003.

The first day of the meeting will be conducted as a hearing, in which the Subcommittee will gather information about the impact of the regulation on the use and disclosure of personal health information for marketing, and about the impact of the regulation on the use and disclosure of personal health information in the course of fund-raising actitivies by health care entities.

The Subcommittee will invite representatives of affected groups to provide information about how the regulation has affected the level of privacy and confidentiality for protected health information, best practices for implementation of the regulation, and information that might help to identify and resolve barriers to compliance. The format will include one or more invited panels and time for questions and discussion. The Subcommittee will ask the invited witnesses for examples of the effect the regulation has had on individuals and on entities subject to the regulation. The first day will also include a time period during which members of the public may deliver brief (3 minutes or less) oral public comment about the implementation of the regulation. To be included on the agenda, please contact Marietta Squire (301) 458-4524, by e-mail at mrawlinson@cdc.gov. or postal address at 3311 Toledo Road, Room 2340, Hyattsville, MD 20782 by August 12, 2004.

The second day of the meeting will be conducted in two parts. The first part will be a hearing in which the Subcommittee will gather information about the impact of the regulation on disclosure of personal health information to the press, and about the interaction between the regulation and freedom of information statutes. The Subcommittee will invite representatives of affected groups to provide information about how the regulation has affected the level of privacy and confidentiality for protected health information, best practices for implementation of the regulation, and information that might help to identify and resolve barriers to compliance. The second part will consist of Subcommittee discussion of the testimony it has heard and deliberations about possible recommendations to the Secretary.

Persons wishing to submit written testimony only (which should not exceed five double-spaced typewritten pages) should endeavor to submit it by that date. Unfilled slots for oral testimony will also be filled on the days of the meeting as time permits. Please consult Ms. Squire for further information about these arrangements.

Additional information about the hearing will be provided on the NCVHS Web site http://www.ncvhs.hhs.gov. shortly before the hearing date.

Contact Person For More Information: Information about the content of the hearing and matters to be considered may be obtained from John P. Fanning, Lead Staff Person for the NCVHS Subcommittee on Privacy and Confidentiality, Office of the Assistant Secretary for Planning and Evaluation, U.S. Department of Health and Health Services, 440D Humphrey Building, 200 Independence Avenue, SW., Washington, DC 20201, telephone (202) 690-5896, e-mail john.p.fanning@hhs.gov, or from Marjorie S. Greenberg, Executive Secretary, NCVHS, NCHS, CDC, Room 2413, Presidential Building IV, 3311 Toledo Road, Hyattsville, Maryland 20782, telephone (301)458-4245.

Information about the committee, including summaries of past meetings and a roster of committee members, is available on the Committee's Web site at http://www.ncvhs.hhs.gov.

Dated: June 24, 2004.
James Scanlon,
Acting Deputy Assistant Secretary for Science and Data Policy, OASPE.

[FR Doc. 04-15299 Filed 7-6-04; 8:45 am]

BILLING CODE 4151-05-M